OFFICE OF PERSONNEL MANAGEMENT

Submission for Review: OPM Online Form 1417, Combined Federal Campaign Results Report

AGENCY: U.S. Office of Personnel Management.

ACTION: 60-Day notice and request for comments.

SUMMARY: The Office of Combined Federal Campaign, Office of Personnel Management (OPM) offers the general public and other Federal agencies the opportunity to comment on an information collection request (ICR) 3206-0193, OPM 1417, the Combined Federal Campaign Results Report. As required by the Paperwork Reduction Act of 1995, (Pub. L. 104-13, 44 U.S.C. chapter 35) as amended by the Clinger-Cohen Act (Pub. L. 104-106), OPM is soliciting comments for this collection.

DATES: Comments are encouraged and will be accepted until September 15, 2014. This process is conducted in accordance with 5 CFR 1320.1.

ADDRESS: Interested persons are invited to submit written comments on the proposed information collection to the Office of Combined Federal Campaign, Office of Personnel Management, 1900 E. Street NW., Washington, DC 20415, Attention: Marcus Glasgow or sent via electronic mail to marcus.glasgow@opm.gov.

FOR FURTHER INFORMATION CONTACT: A copy of this ICR, with applicable supporting documentation, may be obtained by contacting the Office of Combined Federal Campaign, Office of Personnel Management, 1900 E. Street NW., Washington, DC 20415, Attention: Marcus Glasgow or sent via electronic mail to marcus.glasgow@opm.gov.

SUPPLEMENTARY INFORMATION: The Combined Federal Campaign (CFC) is the world's largest and most successful annual workplace philanthropic giving campaign, with 151 CFC campaigns throughout the country and overseas raising millions of dollars each year. The mission of the CFC is to promote and support philanthropy through a program that is employee focused, cost-efficient, and effective in providing all federal employees the opportunity to improve the quality of life for all.

The CFC OPM Online Form 1417 collects information from the 151 local CFC campaigns to verify campaign results and collect contact information. Revisions to the form include clarifying edits to item number 13 of the Campaign Results Totals screen; clarifying edits and expansion of item numbers 14 and 17 of the Campaign Results Totals screen; the elimination of item numbers 16, 18, and 19 of the Campaign Results Totals screen; and the inclusion of verbiage on the Summary Report screen that states that the OPM Form 1417 is not complete without the submission, by email, of the relevant designation data.

The Office of Management and Budget is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Analysis

Agency: Combined Federal Campaign, Office of Personnel Management.

Title: OPM Online Form 1417, Combined Federal Campaign Results Report.

OMB Number: 3260-0193.

Frequency: Annually.

Affected Public: Principal Combined Fund Organizations.

Number of Respondents: 151.

Estimated Time Per Respondent: 40 minutes.

Total Burden Hours: 101 hours.

U.S. Office of Personnel Management.
Katherine Archuleta,
Director.

[FR Doc. 2014-16661 Filed 7-15-14; 8:45 am]

BILLING CODE 6325-58-P